DEPARTMENT OF COMMERCE

Foreign-Trade Zones Board

[Docket 66-2000]

Foreign-Trade Zone 199—Texas City, Texas; Application for Subzone, ISP Technologies Inc. (Chemical Plant), Texas City, TX

An application has been submitted to the Foreign-Trade Zones Board (the Board) by the Texas City Foreign-Trade Zone Corporation, grantee of FTZ 199, requesting special-purpose subzone status for the chemical plant facilities of ISP Technologies Inc., located in Texas City, Texas. The application was submitted pursuant to the provisions of the Foreign-Trade Zones Act, as amended (19 U.S.C. 81a-81u), and the regulations of the Board (15 CFR part 400). It was formally filed on November 28, 2000.

The facility is located at 4501 Attwater Avenue, Texas City, Texas. The application is requesting the use of zone procedures only for the portion of the facility that processes butanediol (B1D) into butyrolactone (BLO). This portion of the facility (2.2 acres, 170 employees) has the capacity to produce 140,000 pounds per day of BLO (HTS 2932.29.50 and 3824.90.47; duty rate 3.7%). All of the B1D is sourced from abroad (HTS 2905.39.10; duty rate 7.9%).

FTZ procedures would exempt ISP from Customs duty payments on the foreign components used in export production. Some 35 percent of the BLO produced from the imported B1D in 1999 was exported. On its domestic sales, ISP would be able to choose the duty rates during Customs entry procedures that apply to BLO (3.7%) for the foreign input noted above. The request indicates that the savings from FTZ procedures would help improve the plant's international competitiveness.

In accordance with the Board's regulations, a member of the FTZ Staff has been designated examiner to investigate the application and report to the Board.

Public comment is invited from interested parties. Submissions (original and 3 copies) shall be addressed to the Board's Executive Secretary at the address below. The closing period for their receipt is February 12, 2001. Rebuttal comments in response to material submitted during the foregoing period may be submitted during the subsequent 15-day period to February 25, 2001.

A copy of the application and the accompanying exhibits will be available for public inspection at each of the following locations:

U.S. Department of Commerce, Export Assistance Center, 500 Dallas, Suite 1160, Houston, TX 77002.

Office of the Executive Secretary, Foreign-Trade Zones Board, Room 4008, U.S. Department of Commerce, 14th and Pennsylvania Avenue, NW., Washington, DC 20230.

Dated: November 30, 2000.
Dennis Puccinelli,
Executive Secretary.

[FR Doc. 00-31493 Filed 12-11-00; 8:45 am]

BILLING CODE 3510-DS-P